DEPARTMENT OF VETERANS AFFAIRS

[Docket No. VA-2025-VACO-0002]

Enhanced-Use Lease of Department of Veterans Affairs Real Property for the Development of Permanent Supportive Housing at the Kerrville Veterans Affairs Medical Center, Kerrville, Texas Campus

AGENCY: Department of Veterans Affairs.

ACTION: Notice of intent to enter into an enhanced-use lease.

SUMMARY: The Secretary, Department of Veterans Affairs (VA), intends to enter into an Enhanced-Use Lease (EUL) on approximately three acres of underutilized land on the campus of the Kerrville, Texas VA Medical Center.

FOR FURTHER INFORMATION CONTACT: C. Brett Simms, Executive Director, Office of Asset Enterprise Management, (202) 502-0262.

SUPPLEMENTARY INFORMATION: Pursuant to 38 U.S.C. 8161, et seq. as amended by Public Law 117-168, the Secretary of VA is authorized to enter into an EUL for a term consistent with that section, that (a) provides supportive housing for veterans and their families, or (b) enhances the use of the leased property by directly or indirectly benefitting veterans. In addition, the EUL must not be inconsistent with and not adversely affect VA's mission or the operation of VA's facilities, programs, and services in the area of the leased property.

Consistent with this authority, the Secretary intends to enter into an EUL for the purpose of outleasing approximately three acres of underutilized land on the campus of the Kerrville, Texas VA Medical Center, to develop approximately 52 units of permanent supportive housing for veterans and their families. The competitively selected EUL lessee/developer, Freedom's Path Kerrville II, Limited Partnership, will finance, design, develop, renovate, construct, manage, maintain, and operate housing for eligible homeless veterans or veterans at risk of homelessness on a priority placement basis. In addition, the lessee/developer will be required to provide supportive services that guide veteran residents towards long-term independence and self-sufficiency.

Signing Authority

Douglas A. Collins, Secretary of Veterans Affairs, approved this document on November 24, 2025, and authorized the undersigned to sign and submit the document to the Office of the Federal Register for publication electronically as an official document of the Department of Veterans Affairs.

Taylor N. Mattson,
Alternate Federal Register Liaison Officer, Department of Veterans Affairs.

[FR Doc. 2025-21365 Filed 11-26-25; 8:45 am]

BILLING CODE 8320-01-P